NATIONAL TRANSPORTATION SAFETY BOARD

Agenda; Sunshine Act Meeting

Time: 9:30 a.m., Tuesday, June 8, 2004.

Place: NTSB Conference Center, 429 L'Enfant Plaza, SW., Washington, DC 20594.

Status: The one item is open to the public.

Matter to be Considered: 7501A Aircraft Accident Report—Collision with Trees on Final Approach, FedEx flight 1478, Boeing 727-232, N497FE, Tallahassee, Florida, July 26, 2002.

News Media Contact: Telephone: (202) 314-6100.

Individuals requesting specific accommodations should contact Ms. Carolyn Dargan at (202) 314-6305 by Friday, June 4, 2004.

The public may view the meeting via a live or archived webcast by accessing a link under “News & Events” on the NTSB home page at http://www.ntsb.gov.

FOR FURTHER INFORMATION CONTACT: Vicky D'Onofrio, (202) 314-6410.

Dated: May 21, 2004.
Vicky D'Onofrio,
Federal Register Liaison Officer.

[FR Doc. 04-11968 Filed 5-21-04; 5:10 pm]

BILLING CODE 7533-01-M